DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, email paperwork@hrsa.gov or call the HRSA Reports Clearance Officer at (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: The National Health Service Corps Site Retention Assessment Questionnaire (OMB #)—New

The National Health Service Corps (NHSC) provides health professionals with loan repayment and scholarships in return for their service to underserved areas. The NHSC's mission is to improve access to primary care, which is supported by clinicians who remain in their sites well beyond their contracted periods of service. However, many sites are unaware of their influence and impact on clinician retention levels. The purpose of this project is to gather survey information from administrative officials at NHSC-approved sites that will guide NHSC initiatives and assist sites in improving their retention outcomes. The survey will ask site administrators to rate: (1) How difficult it is to retain clinicians; (2) their general attitudes about the feasibility of good retention and awareness of its principles; (3) their practices' current approaches to promoting retention; (4) various aspects of their practices' organizational culture and administrative style; and (5) their sites' interest in and preferred ways of learning how to bolster retention. Survey data will be gathered anonymously and presented in-aggregate, to promote administrators' participation and full disclosure.

The annual estimate of burden is as follows:

Instrument | Number of respondents | Responses per respondent | Total responses | Hours per response | Total burden hours
NHSC Site Retention Assessment Questionnaire | 7,000 | 1 | 7,000 | 0.507 | 3,549

Email comments to paperwork@hrsa.gov or mail the HRSA Reports Clearance Officer, Room 10-33, Parklawn Building, 5600 Fishers Lane, Rockville, MD 20857. Written comments should be received within 30 days of this notice.

Dated: February 8, 2013.
Bahar Niakan,
Director, Division of Policy and Information Coordination.

[FR Doc. 2013-03624 Filed 2-15-13; 8:45 am]

BILLING CODE 4165-15-P